DEPARTMENT OF HEALTH AND HUMAN SERVICES

Health Resources and Services Administration

Privacy Act of 1974; Deletion of an Existing System of Records

AGENCY: Department of Health and Human Services (HHS), Health Resources and Services Administration (HRSA).

ACTION: Notice to delete an existing HRSA System of Records (SOR).

SUMMARY: In accordance with the requirements of the Privacy Act of 1974, HRSA is deleting an existing system of records titled the “Disability Claims in the Health Professions Student Loan Programs, HHS/HRSA/BHPr,” HRSA System No. SORN 09-15-0039.

DATES: Effective Date: The deletion will be effective on December 8, 2009.

ADDRESSES: The public should address comments to: Director, Division of Student Loans and Scholarships, BHPr/HRSA/DHHS, HRSA, Room 9-105, 5600 Fishers Lane, Rockville, MD 20857. The telephone number is 301-443-1173. Comments received will be available for review at this location, by appointment, during regular business hours, Monday through Friday from 9 a.m.-3 p.m., Eastern Time Zone.

SUPPLEMENTARY INFORMATION: The reason for the deletion of this system of records is that it has been combined with SORN 09-15-0038. The justification for the combination is because both SORN 09-15-0038 and SORN 09-15-0039 are in reality one system in which all disability claims for both Health Professions Student Loan Programs and Nursing Student Loan Programs are kept. SORN 09-15-0038 will remain as the combined SORN, and SORN 09-15-0039 will be deleted.

Dated: November 30, 2009.
Mary K. Wakefield,
Administrator.

[FR Doc. 2010-2244 Filed 2-2-10; 8:45 am]

BILLING CODE 4160-15-P